DEPARTMENT OF ENERGY

Federal Energy Regulatory Commission

[Project No. 405-111]

Exelon Generation Company, LLC; Notice of Application Accepted for Filing, Soliciting Comments, Motions To Intervene and Protests

Take notice that the following hydroelectric application has been filed with the Commission and is available for public inspection:

a. Application Type: Non-project use of project lands and waters; water withdrawal and discharge into licensed project waters.

b. Project No.: 405-111.

c. Date Filed: June 30, 2014.

d. Applicant: Exelon Generation Company, LLC.

e. Name of Project: Conowingo Hydroelectric Project.

f. Location: The project is located on the Susquehanna River in Cecil and Harford Counties, Maryland and in Lancaster and York Counties, Pennsylvania.

g. Filed Pursuant to: Federal Power Act, 16 U.S.C. 791a-825r.

h. Applicant Contacts: Mr. Brian J. McManus, Van Ness Feldman, LLP, 1050 Thomas Jefferson Street NW., Seventh Floor, Washington, DC 20007-3877, telephone (202) 298-3720, and email address: bzm@vnf.com.

i. FERC Contact: CarLisa Linton-Peters, telephone: (202) 502-8416, and email address: Carlisa.linton-peters@ferc.gov.

j. Deadline for filing comments, motions to intervene, and protests is 30 days from the issuance date of this notice by the Commission.

All documents may be filed electronically via the Internet. See 18 CFR 385.2001(a)(1)(iii) and the instructions on the Commissions Web site at http://www.ferc.gov/docs-filing/efiling.asp. If unable to be filed electronically documents may be paper-filed. To paper-file, an original should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments. Please include the project number (P-405-111) on any comments or motions filed.

k. Description of Request: Exelon Generation Company, LLC (Exelon or licensee) proposes to permit Old Dominion Electric Cooperative (ODEC or permitee) use of the Conowingo Project waters and lands for the withdraw and discharge of water necessary to support the combined-cycle electric power generating plant known as the Wildcat Point Generation Project that ODEC proposes to build and operate in Cecil County, Maryland. The proposed non-project use of project lands would include the construction and installation of a water intake structure and pipeline extending into the Conowingo reservoir, an off-site pumphouse and pipeline, and an outfall structure and pipeline that would discharge return water back into the reservoir. The amount of the proposed water withdraw from the Conowingo Project reservoir would not exceed 8.7 million gallons per day (mgd) and the return water would not exceed 0.8 mgd, for a total consumptive use of 7.9 mgd. ODEC would use water from the Conowingo reservoir for cooling and process water for the new generating facilities. The proposed Wildcat Point Generation Project would be located outside of the Conowingo Project boundary, in Lancaster, Pennsylvania.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title “COMMENTS,” “PROTEST,” or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervener must be accompanied by proof of service on all persons listed in the service list prepared by the Commission in this proceeding, in accordance with 18 CFR 385.2010.

Dated: August 25, 2014.
Kimberly D. Bose,
Secretary.

[FR Doc. 2014-20765 Filed 8-29-14; 8:45 am]

BILLING CODE 6717-01-P